DEPARTMENT OF COMMERCE

International Trade Administration

[A-533-869]

Certain New Pneumatic Off-the-Road Tires From India: Final Results of Expedited Sunset Review of the Antidumping Duty Order

AGENCY: Enforcement and Compliance, International Trade Administration, Department of Commerce.

SUMMARY: As a result of this expedited sunset review, the U.S. Department of Commerce (Commerce) finds that revocation of the antidumping duty (AD) order on certain new pneumatic off-the-road tires (off-road tires) from India would be likely to lead to continuation or recurrence of dumping at the levels indicated in the “Final Results of Review” section of this notice.

DATES: Applicable June 7, 2022.

FOR FURTHER INFORMATION CONTACT: Lilit Astvatsatrian, AD/CVD Operations, Office IV, Enforcement and Compliance, International Trade Administration, U.S. Department of Commerce, 1401 Constitution Avenue NW, Washington, DC 20230; telephone: (202) 482-6412.

SUPPLEMENTARY INFORMATION:

Background

On February 1, 2022, Commerce published the notice of initiation of the sunset review of the AD order on off-road tires from India,¹ pursuant to section 751(c) of the Tariff Act of 1930, as amended (the Act).² In accordance with 19 CFR 351.218(d)(1)(i) and (ii), Commerce received notices of intent to participate in these sunset reviews from a domestic producer ³ within 15 days after the date of publication of the Initiation Notice.⁴ The domestic producer claimed domestic interested party status under section 771(9)(C) of the Act, as a manufacturer of a domestic like product in the United States.

¹ See Certain New Pneumatic Off-the-Road Tires from India: Antidumping Duly Order, 82 FR 12553 (March 6, 2017) (Order); and Certain New Pneumatic Off-the-Road Tires from India: Notice of Correction to Antidumping Duty Order, 82 FR 25598 (June 2, 2017).

² See Initiation of Five-Year (Sunset) Review, 87 FR 5467 (February 1, 2022).

³ The domestic producer is Titan Tire Corporation.

⁴ See Domestic Producer's Letter, “Certain New Pneumatic Off-the-Road Tires from India: Notice of Intent to Participate in Sunset Review,” dated February 16, 2022.

On March 3, 2022, the domestic producer submitted a timely substantive response within the 30-day deadline specified in 19 CFR 351.218(d)(3)(i).⁵ Commerce did not receive a substantive response from any other interested parties with respect to the Order covered by this sunset review, nor was a hearing requested. On December 20, 2021, Commerce notified the U.S. International Trade Commission that it did not receive an adequate substantive response from respondent interested parties.⁶ As a result, pursuant to section 751(c)(3)(B) of the Act and 19 CFR 351.218(e)(1)(ii)(C)(2), Commerce conducted an expedited (120-day) sunset review of the Order.

⁵ See Domestic Producer's Letter, “Certain New Pneumatic Off-the-Road Tires from India: Substantive Response to Notice of Initiation,” dated March 3, 2022.

⁶ See Commerce's Letter, “Sunset Reviews Initiated on November 1, 2021,” dated December 20, 2021.

Scope of the Order

The products covered by the Order are off-road tires from India. For a full description of the scope, see the Issues and Decision Memorandum.⁷

⁷ See Memorandum, “Issues and Decision Memorandum for the Final Results of Expedited Sunset Review of the Antidumping Duty Order on Certain New Pneumatic Off-the-Road Tires from India,” dated concurrently with, and hereby adopted by, this notice.

Analysis of Comments Received

All issues raised in this sunset review are addressed in the Issues and Decision Memorandum, including the likelihood of continuation or recurrence of dumping and the magnitude of the margins of dumping likely to prevail if the Order were revoked. A list of topics discussed in the Issues and Decision Memorandum is included as the appendix to this notice. The Issues and Decision Memorandum is a public document and is on file electronically via Enforcement and Compliance's Antidumping and Countervailing Duty Centralized Electronic Service System (ACCESS). ACCESS is available to registered users at https://access.trade.gov. A complete version of the Issues and Decision Memorandum can be accessed directly at https://access.trade.gov/public/FRNotices/ListLayout.aspx.

Final Results of Sunset Review

Pursuant to sections 751(c) and 752(c)(1) and (3) of the Act, Commerce determines that revocation of the Order would be likely to lead to continuation or recurrence of dumping, and that the magnitude of the dumping margins likely to prevail would be weighted-average margins of up to 3.67 percent.

Administrative Protective Order

This notice serves as the only reminder to parties subject to administrative protective order (APO) of their responsibility concerning the destruction of proprietary information disclosed under APO in accordance with 19 CFR 351.305(a). Timely written notification of the destruction of APO materials or conversion to judicial protective orders is hereby requested. Failure to comply with the regulations and terms of an APO is a violation which is subject to sanction.

Notification to Interested Parties

We are issuing and publishing these final results in accordance with sections 751(c), 752(c), and 777(i)(1) of the Act, and 19 CFR 351.218.

Dated: June 1, 2022.
Lisa W. Wang,
Assistant Secretary for Enforcement and Compliance.

Appendix

List of Topics Discussed in the Issues and Decision Memorandum

I. Summary

II. Background

III. Scope of the Order

IV. History of the Order

V. Legal Framework

VI. Discussion of the Issues

1. Likelihood of Continuation or Recurrence of Dumping

2. Magnitude of the Margins Likely to Prevail

VII. Final Results of Sunset Review

VIII. Recommendation

[FR Doc. 2022-12251 Filed 6-6-22; 8:45 am]

BILLING CODE 3510-DS-P